DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Request to Amend a Project and Project Service Maps.

OMB Control Number: 0610-0102.

Form Number(s): None.

Type of Request: Regular submission.

Number of Respondents: 632.

Average Hours Per Response: 2.

Burden Hours: 1,242.

Needs and Uses: A recipient of an investment award must submit a written request to EDA to amend the award and provide such information and documentation as EDA deems necessary to determine the merit of altering the terms of an award. EDA may require a recipient to submit a project service map and information from which to determine whether services are provided to all segments of the region being.

Affected Public: State and local governments; Indian Tribes; institutions of higher education; not for-profit institutions; business or other for-profit organizations; individuals or households.

Frequency: Annually.

Respondent's Obligation: Voluntary.

OMB Desk Officer:

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Sharon Mar, OMB Desk Officer, FAX number (202) 395-5167, or Sharon_Mar@omb.eop.gov.

Dated: May 22, 2009.
Gwellnar Banks,
Management Analyst, Office of the Chief Information Officer.

[FR Doc. E9-12355 Filed 5-27-09; 8:45 am]

BILLING CODE 3510-34-P